DEPARTMENT OF ENERGY

Energy Information Administration

Agency Information Collection Extension

AGENCY: U.S. Energy Information Administration (EIA), Department of Energy (DOE).

ACTION: Notice.

SUMMARY: The Department of Energy (DOE) submitted an information collection request for extension as required by the Paperwork Reduction Act of 1995. The information collection requests a three-year extension without changes to Form FE-746R, “Natural Gas Imports and Exports,” OMB Control Number 1901-0294. The information collection request supports DOE's Office of Fossil Energy & Carbon Management (FECM) in gathering critical information on the U.S. trade in natural gas, including liquefied natural gas (LNG). The data are used to monitor natural gas trade, assess the adequacy of U.S. energy resources to meet near and longer-term domestic demands, and support various market and regulatory analyses done by FECM.

DATES: Comments on this information collection must be received no later than June 30, 2023. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Tu Tran, Office of Fossil Energy and Carbon Management, telephone (202) 235-5873, or by email at Tu.tran@hq.doe.gov. The forms and instructions are available on https://www.energy.gov/fecm/guidelines-filing-monthly-reports.

SUPPLEMENTARY INFORMATION: This information collection request contains:

(1) OMB No.: 1901-0294;

(2) Information Collection Request Title: “Natural Gas Imports and Exports;”

(3) Type of Request: Three-year extension without changes;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. Additionally, FECM is authorized to regulate natural gas imports and exports, including LNG, under section 3 of the Natural Gas Act (15 U.S.C. 717b). In order to carry out its statutory responsibilities, FECM requires anyone seeking to import or export natural gas to file an application and provide basic information on the scope and nature of the proposed import/export activity. Additionally, once an importer or exporter receives an authorization from FECM, they are required to submit monthly reports of all import and/or export transactions.

Specifically, the Form FE-746R requires the reporting of the following information by every holder of a DOE import or export authorization: the name of importer/exporter; country of origin/destination; international point of entry/exit; name of supplier; volume; price; transporters; U.S. geographic market(s) served; and duration of supply contract on a monthly basis. This information is used by both EIA and FECM to assess the adequacy of energy resources to meet near and longer-term domestic demands, and by FECM in the management of its natural gas regulatory program.

Data collected on Form FE-746R are published in reports made available on DOE's website at https://www.energy.gov/fecm/regulation, and in EIA official statistics on U.S. natural gas supply and disposition. In addition, the data are used to monitor the North American natural gas trade, which, in turn, enables the Federal government to perform market and regulatory analyses; improve the capability of industry and the government to respond to any future energy-related supply problems; and keep the general public informed of international natural gas trade.

(5) Annual Estimated Number of Respondents: 241;

(6) Annual Estimated Number of Total Responses: 2,892;

(7) Annual Estimated Number of Burden Hours: 8,676;

(8) Annual Estimated Reporting and Recordkeeping Cost Burden: The cost of the burden hours is estimated to be $757,935. DOE estimates that respondents will have no additional costs associated with the surveys other than the burden hours and the maintenance of the information during the normal course of business.

Statutory Authority: 15 U.S.C. 772(b), 42 U.S.C. 7101 et seq., 15 U.S.C. 717b.

Signed in Washington, DC, on May 24, 2023.
Samson A. Adeshiyan,
Director, Office of Statistical Methods and Research, U.S. Energy Information Administration.

[FR Doc. 2023-11483 Filed 5-30-23; 8:45 am]

BILLING CODE 6450-01-P